DEPARTMENT OF ENERGY

Federal Energy Regulatory Commission

Notice of Effectiveness of Exempt Wholesale Generator Status

| Docket No.
Azure Sky Wind Project, LLC | EG21-237-000
Alta Farms Wind Project II, LLC | EG21-238-000
Azure Sky Wind Storage, LLC | EG21-239-000
Ranchland Wind Project II, LLC | EG21-240-000
Ranchland Wind Storage, LLC | EG21-241-000
Blue Jay Solar I, LLC | EG21-242-000
Skipjack Solar Center, LLC | EG21-243-000
AR Searcy Project Company, LLC | EG21-244-000
El Algodon Alto Wind Farm, LLC | EG21-245-000
Blackjack Creek Wind Farm, LLC | EG21-246-000
Big Star Solar, LLC | EG21-247-000
IP Radian, LLC | EG21-248-000
Bellflower Solar 1, LLC | EG21-249-000
Black Bear Alabama Solar 1, LLC | EG21-250-000
Happy Solar 1, LLC | EG21-251-000
Sun Mountain Solar 1, LLC | EG21-252-000
Bay Tree Solar, LLC | EG21-253-000
Bay Tree Lessee, LLC | EG21-254-000
EnerSmart El Cajon BESS LLC | EG21-255-000
AP Solar 2, LLC | EG21-256-000
Drew Solar, LLC | EG21-257-000
Dunns Bridge Solar LLC | EG21-258-000
Mililani I Solar, LLC | EG21-259-000
Lanikuhana Solar, LLC | EG21-260-000
Ventress Solar Farm 1, LLC | EG21-261-000
Nexus Line, LLC | EG21-262-000
Stanly Solar, LLC | EG21-263-000
PGR 2021 Lessee 1, LLC | EG21-264-000
NET Power, LLC | EG21-265-000

Take notice that during the month of November 2021, the status of the above-captioned entities as Exempt Wholesale Generators became effective by operation of the Commission's regulations. 18 CFR 366.7(a) (2021).

Dated: December 14, 2021.
Debbie-Anne A. Reese,
Deputy Secretary.

[FR Doc. 2021-27451 Filed 12-17-21; 8:45 am]

BILLING CODE 6717-01-P